FEDERAL COMMUNICATIONS COMMISSION

47 CFR Part 73

[DA 00-2028, MM Docket No. 99-296; RM-9661]

Digital Television Broadcast Services; Klamath Falls, OR

AGENCY: Federal Communications Commission.

ACTION: Final rule.

SUMMARY: The Commission, at the request of California Oregon Broadcasting, Inc., licensee of Station KOTI-TV, Klamath Falls, Oregon, substitutes DTV Channel 13 for Station KOTI-TV's assigned DTV Channel 40 at Klamath Falls. See 64 FR 54269, October 6, 1999. DTV Channel 13 can be allotted to Klamath Falls at coordinates (42-05-48 N. and 121-37-57 W.) with a power of 45.3, HAAT of 671 meters and with a DTV service population of thousand.

With this action, this proceeding is terminated.

DATES: Effective October 23, 2000.

FOR FURTHER INFORMATION CONTACT: Pam Blumenthal, Mass Media Bureau, (202) 418-1600.

SUPPLEMENTARY INFORMATION: This is a synopsis of the Commission's Report and Order, MM Docket No. 99-296, adopted September 6, 2000, and released September 7, 2000. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334. 336.

§ 73.622 [Amended]

2. Section 73.622(b), the Table of Digital Television Allotments under Oregon, is amended by removing DTV Channel 40 and adding DTV Channel 13 at Klamath Falls.

Federal Communications Commission.
Barbara A. Kreisman,
Chief, Video Services Division, Mass Media Bureau.

[FR Doc. 00-23270 Filed 9-8-00; 8:45 am]

BILLING CODE 6712-01-P